DEPARTMENT OF COMMERCE

Performance Review Board Membership

AGENCY: Economics and Statistics Administration, Department of Commerce.

ACTION: Notice.

SUMMARY: The Economics and Statistics Administration (ESA) announces the appointment of members who will serve on the ESA Performance Review Board (PRB). The purpose of the PRB is to provide fair and impartial review of senior executive service and scientific and professional performance appraisals, bonus recommendations, pay adjustments and Presidential Rank Award nominations. The term of each PRB member will expire on December 31, 2019.

DATES: The date of service of appointees to the ESA Performance Review Board is based upon publication of this notice.

SUPPLEMENTARY INFORMATION: In accordance with 5 U.S.C. 4314(c)(4), the names and position titles of the members of the PRB are set forth below:

John M. Abowd, Associate Director for Research and Methodology, Census Bureau

Dina Beaumont, Senior Advisor for Trade Initiatives Implementation, International Trade Administration

Lisa M. Blumerman, Associate Director for Decennial Census Programs, Census Bureau

Eric Branstad, Senior White House Advisor, Office of the Secretary

Stephen B. Burke, Deputy Under Secretary for Economic Affairs, ESA

Joanne Buenzli Crane, Chief Financial Officer, Census Bureau

Gregory Capella, Deputy Director, National Technical Information Service

Paul Farello, Associate Director for International Economics, Bureau of Economic Analysis (BEA)

Ron Jarmin, Associate Director for Economic Programs, Census Bureau

Enrique Lamas, Associate Director for Demographic Programs, Census Bureau

Brian C. Moyer, Director, BEA

Timothy Olson, Associate Director for Field Operations, Census Bureau

Joel D. Platt, Associate Director for Regional Economics, BEA

Kevin Smith, Associate Director for Information Technology and Chief Information Officer, Census Bureau

Erich Strassner, Associate Director for National Economic Accounts, BEA

Sarahelen Thompson, Deputy Director, BEA

FOR FURTHER INFORMATION CONTACT: Latasha Ellis, Program Manager, Executive Resources Office, Human Resources Division, Census Bureau, 4600 Silver Hill Road, Washington, DC 20233, 301-763-3727.

Dated: October 11, 2017.
Stephen B. Burke,
Deputy Under Secretary for Economic Affairs, Chair, ESA Performance Review Board.

[FR Doc. 2017-22946 Filed 10-23-17; 8:45 am]

BILLING CODE 3510-BS-P